DEPARTMENT OF HEALTH AND HUMAN SERVICES

Health Resources and Services Administration

Agency Information Collection Activities: Proposed Collection: Public Comment Request; Telehealth Resource Center Performance Measurement Tool, OMB No. 0915-0361, Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than June 8, 2018.

ADDRESSES: Submit your comments to paperwork@hrsa.gov or mail Lisa Wright-Solomon, HRSA Information Collection Clearance Officer, Room 10-29, 5600 Fishers Lane, Rockville, MD 20857.

FOR FURTHER INFORMATION CONTACT: To request more information on the proposed project or to obtain a copy of the data collection plans and draft instruments, email Lisa Wright-Solomon at paperwork@hrsa.gov or call the HRSA Information Collection Clearance Officer at (301) 443-1984.

SUPPLEMENTARY INFORMATION: When submitting comments or requesting information, please include the information request collection title for reference.

Information Collection Request Title: Telehealth Resource Center Performance Measurement Tool, OMB No. 0915-0361, Revision.

Abstract: To ensure the best use of public funds and to meet the Government Performance Review Act requirements, the Office for the Advancement of Telehealth (OAT) in collaboration with the Telehealth Resource Centers (TRCs) created a set of performance measures that grantees can use to evaluate the technical assistance services provided by the TRCs. Grantee goals are to provide customized telehealth technical assistance across the country. The TRCs provide technical assistance to health care organizations, health care networks and health care providers in the implementation of cost-effective telehealth programs to serve rural and medically underserved areas and populations.

Need and Proposed Use of the Information: In order to evaluate existing programs, data are submitted to OAT through HRSA's Performance Improvement Management System (PIMS). The data are used to measure the effectiveness of the technical assistance. There are two data reporting periods each year; during these biannual reporting periods data are reported for the previous six months of activity. Programs have approximately six weeks to enter their data into the PIMS system during each biannual reporting period.

The instrument was developed with the following four goals in mind:

1. Improving access to needed services,

2. reducing rural practitioner isolation,

3. improving health system productivity and efficiency, and

4. improving patient outcomes.

The TRCs currently report on existing performance data elements using PIMS. The performance measures are designed to assess how the TRC program is meeting its goals to:

1. Expand the availability of telehealth services in underserved communities,

2. Improve the quality, efficiency, and effectiveness of telehealth services, and

3. Promote knowledge exchange and dissemination about efficient and effective telehealth practices and technology.

4. Establish sustainable technical assistance (TA) centers providing quality, unbiased TA for the development and expansion of effective and efficient telehealth services in underserved communities.

Additionally, the PIMS tool allows OAT to:

1. Determine the value added from the TRC Cooperative Agreement;

2. Justify budget requests;

3. Collect uniform, consistent data which enables OAT to monitor programs;

4. Provide guidance to grantees on important indicators to track over time for their own internal program management;

5. Measure performance relative to the mission of OAT/HRSA as well as individual goals and objectives of the program;

6. Identify topics of interest for future special studies; and

7. Identify changes in healthcare needs within rural communities, allowing programs to shift focus in order to meet those needs.

This renewal request proposes changes to existing measures. After compiling data from the previous tool over the last three years, OAT conducted an analysis of the data and compared the findings with the program needs. Based on the findings, the measures are being revised to better capture information necessary to measure the effectiveness of the program. The measure changes include: Additional demographic details from organizations requesting technical assistance, streamlined methods of inquiry, additional topics of technical assistance inquiries aligning with the current telehealth landscape, streamlined types of services provided by the grantees, deletion of client satisfaction survey results, and deletion of telehealth sites developed as a result of grantee technical assistance.

Likely Respondents: The likely respondents will be telehealth associations, telehealth providers, rural health providers, clinicians that deliver services via telehealth, technical assistance providers, research organizations, and academic medical centers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized burden hours:

Form name | Number of respondents | Number of responses per respondent | Total responses | Average burden per response (in hours) | Total burden hours
Telehealth Resource Center Performance Data Collection Tool | 14 | 42 | 588 | 0.07 | 41
Total | 14 |  | 588 |  | 41

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: April 3, 2018.
Lori Roche,
Acting Deputy Director, Division of the Executive Secretariat.

[FR Doc. 2018-07175 Filed 4-6-18; 8:45 am]

BILLING CODE 4165-15-P